ENVIRONMENTAL PROTECTION AGENCY

[ER-FRL-6656-2]

Environmental Impact Statements; Notice of Availability

Responsible Agency: Office of Federal Activities, General Information (202) 564-7167 or http://www.epa.gov/compliance/nepa/.

Weekly receipt of Environmental Impact Statements

Filed September 20, 2004 through September 24, 2004

Pursuant to 40 CFR 1506.9.

EIS No. 040455, Draft EIS, AFS, WA, Fish Passage and Aquatic Habitat Restoration at Hemlock Dam, Implementation, Gifford Pinchot National Forest, Mount Adams District, Skamania County, WA, Comment Period Ends: November 15, 2004, Contact: Bengt Coffin (509) 395-3425.

EIS No. 040456, Draft EIS, NRS, OR, Williamson River Delta Restoration Project, To Restore and Maintain the Ecological Functions of the Delta, Williamson River, Klamath County, OR, Comment Period Ends: November 15, 2004, Contact: Kevin Conroy (541) 883-6924. Ext 115.

EIS No. 040457, Draft Supplement, AFS, AZ, NM, Southwestern Region Amendment of Forest Plans, Updated Information, Implementation, Standard and Guidelines for Northern Goshawk and Mexican Spotted Owl, AZ and NM, Comment Period Ends: November 15, 2004, Contact: Lou Wottering (505) 842-3898.

EIS No. 040458, Draft EIS, NIH, MD, National Institutes of Health (NIH) Master Plan 2003 Update, National Institutes of Health Main Campus, Bethesda, MD, Montgomery County, MD, Comment Period Ends: November 29, 2004, Contact: Ron Wilson (301) 496-5037.

EIS No. 040459, Draft EIS, IBR, CA, Sacramento River Settlement Contractors (SRSR) To Renew the Settlement Contractors Long-Term Contract Renewal for 145 Contractors, Central Valley Project (CVP), Sacramento River, Shasta, Tehama, Butte, Glenn, Colusa, Sutter, Yolo, Sacramento, Portion of Placer and Solano Counties, CA, Comment Period Ends: November 15, 2004, Contact: Buford Holt (916) 989-7179.

Dated: September 28, 2004.
Ken Mittelholtz,
Environmental Protection Specialist, Office of Federal Activities.

[FR Doc. 04-22089 Filed 9-30-04; 8:45 am]

BILLING CODE 6560-50-P